DEPARTMENT OF HOMELAND SECURITY

U.S. Customs and Border Protection

Notice of Availability of the Draft Programmatic Environmental Assessment for the Deployment and Operation of High Energy X-Ray Inspection Systems at Sea and Land Ports of Entry

AGENCY: U.S. Customs and Border Protection, Department of Homeland Security.

ACTION: Notice of availability of draft Programmatic Environmental Assessment and request for comments.

SUMMARY: U.S. Customs and Border Protection (CBP) is advising the public that a draft Programmatic Environmental Assessment (PEA) for High Energy X-Ray Inspection Systems (HEXRIS) at sea and land ports of entry has been prepared and is available for public review. The draft PEA analyzes the potential environmental impacts due to the use of HEXRIS. CBP seeks public comment on the draft PEA. CBP will consider comments before issuing a final PEA.

DATES: The draft PEA will be available for public review and comment for a period of 30 days beginning on the date this document is published in the Federal Register. To ensure consideration, comments must be received by June 24, 2010. Comments regarding the draft PEA may be submitted as set forth in the ADDRESSES section of this document.

ADDRESSES: Copies of the draft PEA may be obtained by accessing the following Internet address: http://ecso.swf.usace.army.mil/Pages/Publicreview.cfm, or by sending a request to Guy Feyen of CBP by telephone (202-344-1531), by fax (202-344-1418), by e-mail to guy.feyen@dhs.gov or by writing to: CBP, Attn: Guy Feyen, 1300 Pennsylvania Avenue, NW., Suite 1575, Washington, DC 20229.

You may submit comments on the draft PEA by mail or e-mail. Comments are to be addressed to CBP, Attention: Guy Feyen, 1300 Pennsylvania Avenue, NW., Suite 1575, Washington, DC 20229, or sent to guy.feyen@dhs.gov.

Substantive comments received during the comment period will be addressed in, and included as an appendix to, the final PEA. The final PEA will be made available to the public through a Notice of Availability in the Federal Register.

FOR FURTHER INFORMATION CONTACT: Antoinette DiVittorio, Environmental and Energy Division, U.S. Customs and Border Protection, telephone (202) 344-3131.

SUPPLEMENTARY INFORMATION:

Background

A draft Programmatic Environmental Assessment (PEA) for the deployment and operation of High Energy X-Ray Inspection Systems (HEXRIS) at sea and land ports of entry has been completed by the U.S. Customs and Border Protection (CBP), Office of Information and Technology, Laboratories and Scientific Services, Interdiction Technology Branch. The draft PEA is available for public comment.

HEXRIS is a non-intrusive inspection technology that is used to aid in inspecting high-density cargo containers for contraband such as illicit drugs, currency, guns, and weapons of mass destruction. To assist in meeting CBP's mission requirements of securing the borders of the United States while simultaneously facilitating legitimate trade and travel, HEXRIS units are proposed to be deployed and operated at both sea and land ports of entry across the U.S. and Puerto Rico. HEXRIS fills a unique niche in the types of inspection tools used by CBP at the nation's ports of entry. HEXRIS is capable of penetrating dense cargo loads that cannot otherwise be examined with other technologies such as gamma imaging systems or low-energy X-ray systems. HEXRIS will also assist in fulfilling the requirement for the 100% scanning of containers entering the U.S. as directed in the Security and Accountability for Every (SAFE) Port Act of 2006. Public Law 109-347 (Oct. 13, 2006).

The draft PEA addresses the potential impacts from the installation and operation of HEXRIS at various ports throughout the United States for the purpose of conducting non-intrusive inspections of high density cargo containers. Evaluations were conducted on various resources present at the ports, including: Climate, soils, water quality, air quality, vegetation, wildlife, noise, infrastructure, aesthetics, and radiological heath and safety.

Next Steps

This process is being conducted pursuant to the National Environmental Policy Act of 1969 (NEPA), the Council on Environmental Quality Regulations for Implementing the NEPA (40 CFR parts 1500-1508), and Department of Homeland Security Management Directive 5100.1, Environmental Planning Program of April 19, 2006.

Substantive comments concerning environmental impacts received from the public and agencies during the comment period will be evaluated to determine whether further environmental impact review is needed in order to complete the final PEA. Should CBP determine that the implementation of the proposed action would not have a significant impact on the environment, it will prepare a Finding of No Significant Impact (FONSI). The FONSI would be published in the Federal Register.

Should CBP determine that significant environmental impacts exist due to the action, CBP will prepare a Notice of Intent (NOI) to prepare an Environmental Impact Statement (EIS). This NOI to prepare an EIS would be published in the Federal Register.

Dated: May 18, 2010.
Gregory Giddens,
Executive Director, Facilities Management and Engineering, Office of Administration.

[FR Doc. 2010-12512 Filed 5-24-10; 8:45 am]

BILLING CODE 9111-14-P